DEPARTMENT OF LABOR

Occupational Safety and Health Administration

[Docket No. NRTL3-92]

TUV Rheinland of North America, Inc., Expansion of Recognition; NSF International, Correction of Recognition

AGENCY: Occupational Safety and Health Administration (OSHA), Labor.

ACTION: Notice.

SUMMARY: This notice announces the Agency's final decision on the application of TUV Rheinland of North America, Inc., for expansion of its recognition as a Nationally Recognized Testing Laboratory under 29 CFR 1910.7. In an unrelated matter, this notice also includes a correction of recognition to include an additional test standard for NSF International.

EFFECTIVE DATE: This recognition becomes effective on June 20, 2003, and, unless modified in accordance with 29 CFR 1910.7, continues in effect while TUV remains recognized by OSHA as an NRTL.

FOR FURTHER INFORMATION CONTACT: Sherrey Nicolas, Office of Technical Programs and Coordination Activities, NRTL Program, Occupational Safety and Health Administration, U.S. Department of Labor, 200 Constitution Avenue, NW., Room N3653, Washington, DC 20210, or phone (202) 693-2110.

SUPPLEMENTARY INFORMATION:

Notice of Final Decision

The Occupational Safety and Health Administration (OSHA) hereby gives notice of the expansion of recognition of TUV Rheinland of North America, Inc.(TUV), as a Nationally Recognized Testing Laboratory (NRTL). TUV's expansion covers the use of additional test standards. OSHA's current scope of recognition for TUV may be found in the following informational Web page: http://www.osha-slc.gov/dts/otpca/nrtl/tuv.html.

OSHA recognition of an NRTL signifies that the organization has met the legal requirements in § 1910.7 of Title 29, Code of Federal Regulations (29 CFR 1910.7). Recognition is an acknowledgment that the organization can perform independent safety testing and certification of the specific products covered within its scope of recognition and is not a delegation or grant of government authority. As a result of recognition, employers may use products “properly certified” by the NRTL to meet OSHA standards that require testing and certification.

The Agency processes applications by an NRTL for initial recognition or for expansion or renewal of this recognition following requirements in Appendix A to 29 CFR 1910.7. This appendix requires that the Agency publish two notices in the Federal Register in processing an application. In the first notice, OSHA announces the application and provides its preliminary finding and, in the second notice, the Agency provides its final decision on an application. These notices set forth the NRTL's scope of recognition or modifications of this scope.

TUV submitted its application to expand its recognition to use 132 additional test standards on October 16, 2001 (see Exhibit 28). The NRTL Program staff has determined that 17 of the 132 standards cannot be included in the expansion because they are not “appropriate test standards,” within the meaning of 29 CFR 1910.7(c). The staff makes such determinations in processing expansion requests from any NRTL. Therefore, OSHA is including 115 standards in the expansion, as listed below. OSHA performed an on-site review of the NRTL in June 2002 and recommended the expansion in a memo dated October 17, 2002 (see Exhibit 29).

OSHA published the notice of its preliminary findings on the expansion request in the Federal Register on March 4, 2003 (68 FR 10269). The notice requested submission of any public comments by March 19, 2003. OSHA did not receive any comments pertaining to the application.

The previous notice published by OSHA for TUV's recognition covered a renewal of recognition, which became effective on March 18, 2002 (67 FR 12051).

You may obtain or review copies of all public documents pertaining to the TUV application by contacting the Docket Office, Occupational Safety and Health Administration, U.S. Department of Labor, 200 Constitution Avenue, NW., Room N2625, Washington, DC 20210. You should refer to Docket No. NRTL3-92, the permanent record of public information on TUV's recognition.

The current address of the testing facility (site) that OSHA recognizes for TUV is: TUV Rheinland of North America, Inc., 12 Commerce Road, Newtown, Connecticut 06470.

Existing Condition

Currently, OSHA imposes the following condition on its recognition of TUV. This condition is listed first under the “Conditions” section, which is the last section of this notice, and applies also to this expansion for additional test standards. As mentioned in previous notices, such a special condition applies solely to TUV's NRTL operations, and it is in addition to any other condition that OSHA normally imposes in its recognition of any organization as an NRTL.

Final Decision and Order

The NRTL Program staff has examined the applications, the on-site review report, and other pertinent information. Based upon this examination and the assessor's recommendation, OSHA finds that TUV Rheinland of North America, Inc., has met the requirements of 29 CFR 1910.7 for expansion of its recognition to include the additional test standards subject to the limitation and conditions listed below. Pursuant to the authority in 29 CFR 1910.7, OSHA hereby expands the recognition of TUV, subject to this limitation and these conditions.

Limitation

OSHA limits the expansion to testing and certification of products for demonstration of conformance to the following 115 test standards, and OSHA has determined the standards are “appropriate,” within the meaning of 29 CFR 1910.7(c).

ANSI A17.5 Elevators and Escalator Electrical Equipment

ANSI A90.1 Safety Standard for Belt Manlifts

ANSI C12.1 Code for Electricity Meters

ANSI C37.21 Control Switchboards

ANSI Z8.1 Commercial Laundry and Dry-cleaning Equipment and Operations

ANSI/NFPA 72 Installation, Maintenance, and Use of Protective Signaling Systems

UL 44 Rubber-Insulated Wires and Cables Thermoset-Insulated Wires and Cables

UL 45 Portable Electric Tools

UL 50 Enclosures for Electrical Equipment

UL 62 Flexible Cord and Fixture Wire

UL 65 Wired Cabinets

UL 69 Electric-Fence Controllers

UL 83 Thermoplastic-Insulated Wires and Cables

UL 150 Antenna Rotators

UL 187 X-Ray Equipment

UL 201 Garage Equipment

UL 224 Extruded Insulating Tubing

UL 231 Power Outlets

UL 234 Low Voltage Lighting Fixtures for Use in Recreational Vehicles

UL 244A Solid-State Controls for Appliances

UL 291 Automated Teller Systems

UL 294 Access Control System Units

UL 325 Door, Drapery, Gate, Louver, and Window Operators and Systems

UL 347 High-Voltage Industrial Control Equipment

UL 416 Refrigerated Medical Equipment

UL 427 Refrigerating Units

UL 429 Electrically Operated Valves

UL 444 Communications Cables

UL 466 Electric Scales

UL 467 Electrical Grounding and Bonding Equipment

UL 484 Room Air Conditioners

UL 496 Edison Base Lampholders

UL 498 Attachment Plugs and Receptacles

UL 508A Industrial Control Panels

UL 542 Lampholders, Starters, and Starter Holders for Fluorescent Lamps

UL 551 Transformer-Type Arc-Welding Machines

UL 563 Ice Makers

UL 574 Electric Oil Heaters

UL 588 Christmas-Tree and Decorative-Lighting Outfits

UL 603 Power Supplies for Use with Burglar-Alarm Systems

UL 606 Linings and Screens for Use with Burglar-Alarm Systems

UL 609 Local Burglar-Alarm Units and Systems

UL 632 Electrically Actuated Transmitters

UL 634 Connectors and Switches for Use with Burglar-Alarm Systems

UL 636 Holdup Alarm Units and Systems

UL 639 Intrusion-Detection Units

UL 664 Commercial Dry-Cleaning Machines (Type IV)

UL 676 Underwater Lighting Fixtures

UL 681 Installation and Classification of Burglar and Holdup Alarm Systems

UL 756 Coin and Currency Changers and Actuators

UL 773 Plug-In Locking-Type Photocontrols for Use With Area Lighting

UL 773A Nonindustrial Photoelectric Switches for Lighting Control

UL 813 Commercial Audio Equipment

UL 817 Cord Sets and Power-Supply Cords

UL 827 Central Station Alarm Services

UL 834 Heating, Water Supply, and Power Boilers—Electric

UL 845 Motor Control Centers

UL 869A Standard for Service Equipment

UL 884 Underfloor Raceways and Fittings

UL 916 Energy Management Equipment

UL 917 Clock-Operated Switches

UL 924 Emergency Lighting and Power Equipment

UL 983 Surveillance Cameras Units

UL 998 Humidifiers

UL 1008 Transfer Switch Equipment

UL 1023 Household Burglar-Alarm System Units

UL 1029 High-Intensity Discharge Lamp Ballasts

UL 1030 Sheathed Heater Elements

UL 1034 Burglary Resistant Electric Locking Mechanisms

UL 1054 Special-Use Switches

UL 1076 Proprietary Burglar-Alarm Units and Systems

UL 1077 Supplementary Protectors for Use in Electrical Equipment

UL 1086 Household Trash Compactors

UL 1088 Temporary Lighting Strings

UL 1090 Electric Snow Movers

UL 1097 Double Insulation Systems for Use in Electrical Equipment

UL 1206 Electric Commercial Clothes-Washing Equipment

UL 1241 Junction Boxes for Swimming Pool Lighting Fixtures

UL 1261 Electric Water Heaters for Pools and Tubs

UL 1283 Electromagnetic-Interference Filter

UL 1286 Office Furnishings

UL 1414 Across-the-Line, Antenna-Coupling, and Line-by-Pass Capacitors for Radio-Television-Type Appliances

UL 1433 Control Centers for Changing Message Type Electric Signs

UL 1447 Electric Lawn Mowers

UL 1448 Electric Hedge Trimmers

UL 1450 Motor Operated Air Compressors, Vacuum Pumps and Painting Equipment

UL 1472 Solid-State Dimming Controls

UL 1565 Wire Positioning Devices

UL 1581 Standard for Electrical Wires, Cables, and Flexible Cords

UL 1610 Central-Station Burglar-Alarm Units

UL 1637 Home Health Care Signaling Equipment

UL 1638 Visual Signaling Appliances

UL 1740 Industrial Robots and Robotic Equipment

UL 1778 Uninterruptible Power Supply Equipment

UL 1951 Electric Plumbing Accessories

UL 1993 Self-Ballasted Lamps and Lamp Adapters

UL 1994 Low-Level Path Marking and Lighting Systems

UL 1996 Duct Heaters

UL 2044 Commercial Closed Circuit Television Equipment

UL 2097 Double Insulation Systems for Use in Electronic Equipment

UL 2106 Field Erected Boiler Assemblies

UL 2111 Overheating Protection for Motors

UL 3044 Surveillance Closed Circuit Television Equipment

UL 60335-2-8 Household and Similar Electric Appliances, Part 2; Particular Requirements for Electric Shavers, Hair Clippers and Similar Appliances

UL 60335-2-34 Household and Similar Electrical Appliances, Part 2; Particular Requirements for Motor-Compressors

UL 60730-1 Automatic Electrical Controls for Household and Similar Use; Part 1: General Requirements

UL 60730-2-6 Automatic Electrical Controls for Household and Similar Use; Part 2: Particular Requirements for Automatic Electrical Pressure Sensing Controls Including Mechanical Requirements

UL 60730-2-7 Automatic Electrical Controls for Household and Similar Use; Part 2: Particular Requirements for Timers and Time Switches

UL 60730-2-10A Automatic Electrical Controls for Household and Similar Use; Part 2: Particular Requirements for Motor Starting Relays

UL 60730-2-11A Automatic Electrical Controls for Household and Similar Use; Part 2: Particular Requirements for Energy Regulators

UL 60730-2-12A Automatic Electrical Controls for Household and Similar Use; Part 2: Particular Requirements for Electrically Operated Door Locks

UL 60730-2-13A Automatic Electrical Controls for Household and Similar Use; Part 2: Particular Requirements for Humidity Sensing Controls

UL 60730-2-14 Automatic Electrical Controls for Household and Similar Use; Part 2: Particular Requirements for Electric Actuators

UL 60730-2-16A Automatic Electrical Controls for Household and Similar Use; Part 2: Particular Requirements for Automatic Electrical Water Level Controls

UL 61058-1 Switch for Appliances for Household and Similar Applications

OSHA's recognition of TUV, or any NRTL, for a particular test standard is limited to equipment or materials (i.e., products) for which OSHA standards require third party testing and certification before use in the workplace. Consequently, an NRTL's scope of recognition excludes any product(s) that fall within the scope of a test standard, but for which OSHA standards do not require NRTL testing and certification.

Many of the test standards listed above are approved as American National Standards by the American National Standards Institute (ANSI). However, for convenience in compiling the list, we often use the designation of the standards developing organization (e.g., UL 1029) for the standard, as opposed to the ANSI designation (e.g., ANSI/UL 1029). Under our procedures, an NRTL recognized for an ANSI-approved test standard may use either the latest proprietary version of the test standard or the latest ANSI version of that standard, regardless of whether it is currently recognized for the proprietary or ANSI version. Contact “NSSN” (http://www.nssn.org), an organization partially sponsored by ANSI, to find out whether or not a test standard is currently ANSI-approved.

Conditions

TUV must also abide by the following conditions of the recognition, in addition to those already required by 29 CFR 1910.7:

TUV must have specific written testing procedures in place before testing products covered by any test standard for which it is recognized and must use these procedures in testing and certifying those products;

OSHA must be allowed access to TUV's facility and records for purposes of ascertaining continuing compliance with the terms of its recognition and to investigate as OSHA deems necessary;

If TUV has reason to doubt the efficacy of any test standard it is using under this program, it must promptly inform the test standard developing organization of this fact and provide that organization with appropriate relevant information upon which its concerns are based;

TUV must not engage in or permit others to engage in any misrepresentation of the scope or conditions of its recognition. As part of this condition, TUV agrees that it will allow no representation that it is either a recognized or an accredited Nationally Recognized Testing Laboratory (NRTL) without clearly indicating the specific equipment or material to which this recognition is tied, or that its recognition is limited to certain products;

TUV must inform OSHA as soon as possible, in writing, of any change of ownership, facilities, or key personnel, and of any major changes in its operations as an NRTL, including details;

TUV will meet all the terms of its recognition and will always comply with all OSHA policies pertaining to this recognition; and

TUV will continue to meet the requirements for recognition in all areas where it has been recognized.

Notice of Correction

With respect to Docket No. NRTL2-98, NSF International (NSF) applied for a test standard listed below as part of their original expansion request but inadvertently left it out in the later version of that request. OSHA is expanding the recognition of NSF to include UL 563 Ice Makers, which requires the same type of capabilities as other test standards approved for their expansion request dated June 25, 2002 (see exhibit 10). This action is unrelated to our expansion of TUV's recognition. We include it herein only for convenience in processing.

Signed at Washington, DC, this 11th day of June, 2003.
John L. Henshaw,
Assistant Secretary.

[FR Doc. 03-15631 Filed 6-19-03; 8:45 am]

BILLING CODE 4510-26-P